DEPARTMENT OF ENERGY

FEDERAL ENERGY REGULATORY COMMISSION

[Docket No. PR05-13-000]

Regency Intrastate Gas, LLC; Notice of Petition for Rate Approval

May 10, 2005.

Take notice that on May 2, 2005, Regency Intrastate Gas, LLC (Regency Intrastate) filed a petition for rate approval pursuant to section 284.123(b)(2) of the Commission's Regulations. Regency Intrastate requests the Commission to approve a maximum monthly reservation charge of $5.42 per MMBtu for firm transportation service, a maximum firm commodity charge of $.0746 per MMBtu, and a maximum rate of $.2529 per MMBtu for interruptible transportation service under section 311 of the Natural Gas Policy Act.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “FERRIS” link. Enter the docket number excluding the last three digits of the docket number field to access the document. For Assistant, call (202) 502-8222 or for TTY, (202) 502-8659. Comments, protests and interventions may be filed electronically via the Internet in lieu of paper. The Commission strongly encourages electronic filings. See, 18 CFR 385.2001(1)(iii) and the instructions on the Commission's Web site under the “e-Filing” link.

Comment Date: May 31, 2005.

Magalie R. Salas,
Secretary.

[FR Doc. E5-2449 Filed 5-16-05; 8:45 am]

BILLING CODE 6717-01-P